DEPARTMENT OF THE INTERIOR

Bureau of Land Management

[MT-072-1430-ET; MTM 95280]

Notice of Proposed Withdrawal and Opportunity for Public Meeting; Montana; Correction

AGENCY: Bureau of Land Management, Interior.

ACTION: Notice; correction.

SUMMARY: The Bureau of Land Management published a Notice of Proposed Legislative Withdrawal in the Federal Register on August 7, 2007. The document contained an incorrect legal description.

FOR FURTHER INFORMATION CONTACT: Sandra Ward, 406-896-5052.

Correction

In the Federal Register of August 7, 2007, in FR Doc. E7-15366, on page 44174, in the third column, the legal description under Sec. 3, which reads “S½N¼”, is corrected to read “S½N½”, and under Sec. 4, which reads “S½N¼”, is corrected to read “S½N½”.

Dated: August 14, 2007.
Cindy Staszak,
Chief, Branch of Land Resources.

[FR Doc. E7-16905 Filed 8-24-07; 8:45 am]

BILLING CODE 4310-$$-P